DEPARTMENT OF ENERGY

Federal Energy Regulatory Commission

Combined Notice of Filings #2

Take notice that the Commission received the following Complaints and Compliance filings in EL Dockets:

Docket Numbers: EL24-8-000.

Applicants: Elevate Renewables F7, LLC and Parkway Generation Operating LLC v. PJM Interconnection, L.L.C.

Description: Complaint of Elevate Renewables F7, LLC and Parkway Generation Operating LLC v. PJM Interconnection, L.L.C.

Filed Date: 10/31/23.

Accession Number: 20231031-5296.

Comment Date: 5 p.m. ET 11/30/23.

Take notice that the Commission received the following electric rate filings:

Docket Numbers: ER10-2437-020.

Applicants: Arizona Public Service Company.

Description: Notice of Change in Status of Arizona Public Service Company.

Filed Date: 10/31/23.

Accession Number: 20231031-5372.

Comment Date: 5 p.m. ET 11/21/23.

Docket Numbers: ER10-2822-025; ER10-1291-026; ER10-2285-009; ER10-2812-019; ER10-2828-008; ER10-3001-008; ER10-3002-008; ER10-3004-009; ER10-3010-008; ER10-3031-008; ER10-3160-006; ER11-2112-012; ER12-96-011; ER12-422-009; ER12-2649-007; ER16-1250-019; ER16-1637-005; ER16-2285-006; ER17-1241-003; ER19-2361-003; ER10-2843-018.

Applicants: GenConn Middletown LLC, Otter Creek Wind Farm LLC, Deerfield Wind, LLC, Desert Wind Farm LLC, UIL Distributed Resources, LLC, Avangrid Renewables, LLC, Groton Wind, LLC, New England Wind, LLC, South Chestnut LLC, Blue Creek Wind Farm LLC, The United Illuminating Company, Streator-Cayuga Ridge Wind Power LLC, Providence Heights Wind, LLC, Locust Ridge Wind Farm II, LLC, Locust Ridge Wind Farm, LLC, Lempster Wind, LLC, Casselman Windpower LLC, GenConn Devon LLC, Central Maine Power Company, GenConn Energy LLC, Atlantic Renewable Projects II LLC.

Description: Notice of Change in Status of Atlantic Renewable Projects II LLC, et. al.

Filed Date: 10/31/23.

Accession Number: 20231031-5357.

Comment Date: 5 p.m. ET 11/21/23.

Docket Numbers: ER16-1720-025.

Applicants: Invenergy Energy Management LLC.

Description: Notice of Change in Status of Invenergy Energy Management LLC.

Filed Date: 10/31/23.

Accession Number: 20231031-5336.

Comment Date: 5 p.m. ET 11/21/23.

Docket Numbers: ER20-1734-006.

Applicants: Alabama Power Company.

Description: Compliance filing: Order No. 864 Settlement and Resubmitted Compliance Filing to be effective 1/27/2020.

Filed Date: 11/1/23.

Accession Number: 20231101-5126.

Comment Date: 5 p.m. ET 11/22/23.

Docket Numbers: ER23-2416-002.

Applicants: PJM Interconnection, L.L.C.

Description: Tariff Amendment: Errata to Designated Entity Agreement, SA No. 7001 in ER23-2416 to be effective 6/16/2023.

Filed Date: 11/1/23.

Accession Number: 20231101-5085.

Comment Date: 5 p.m. ET 11/22/23.

Docket Numbers: ER24-284-000.

Applicants: PJM Interconnection, L.L.C., FirstEnergy Pennsylvania Electric Company, Keystone Appalachian Transmission Company.

Description: 205(d) Rate Filing: PJM Interconnection, L.L.C. submits tariff filing per 35.13(a)(2)(iii: Revisions to OATT, OA and RAA re: FE PA Reorganization to be effective 12/31/9998.

Filed Date: 11/1/23.

Accession Number: 20231101-5066.

Comment Date: 5 p.m. ET 11/22/23.

Docket Numbers: ER24-285-000.

Applicants: PJM Interconnection, L.L.C., FirstEnergy Pennsylvania Electric Company, Keystone Appalachian Transmission Company.

Description: 205(d) Rate Filing: PJM Interconnection, L.L.C. submits tariff filing per 35.13(a)(2)(iii: Revisions to CTOA re: FE PA Reorganization to be effective 12/31/9998.

Filed Date: 11/1/23.

Accession Number: 20231101-5067.

Comment Date: 5 p.m. ET 11/22/23.

Docket Numbers: ER24-286-000.

Applicants: West Penn Power Company, PJM Interconnection, L.L.C.

Description: 205(d) Rate Filing: West Penn Power Company submits tariff filing per 35.13(a)(2)(iii: West Penn Power Company amends One ECSA, SA No. 5268 to be effective 12/31/9998.

Filed Date: 11/1/23.

Accession Number: 20231101-5069.

Comment Date: 5 p.m. ET 11/22/23.

Docket Numbers: ER24-287-000.

Applicants: Midcontinent Independent System Operator, Inc.

Description: 205(d) Rate Filing: 2023-11-01_Schedule 27 Base Output Calculation Update to be effective 1/1/2024.

Filed Date: 11/1/23.

Accession Number: 20231101-5072.

Comment Date: 5 p.m. ET 11/22/23.

Docket Numbers: ER24-288-000.

Applicants: Midcontinent Independent System Operator, Inc., ALLETE, Inc.

Description: 205(d) Rate Filing: Midcontinent Independent System Operator, Inc. submits tariff filing per 35.13(a)(2)(iii: 2023-11-01_ALLETE Depreciation Rates Filing to be effective 1/1/2023.

Filed Date: 11/1/23.

Accession Number: 20231101-5075.

Comment Date: 5 p.m. ET 11/22/23.

Docket Numbers: ER24-289-000.

Applicants: Southwest Power Pool, Inc.

Description: Compliance filing: Order No. 895 Compliance Filing to Permit Credit-Related Information Sharing to be effective 10/21/2023.

Filed Date: 11/1/23.

Accession Number: 20231101-5076.

Comment Date: 5 p.m. ET 11/22/23.

Docket Numbers: ER24-290-000.

Applicants: FirstEnergy Pennsylvania Electric Company.

Description: 205(d) Rate Filing: 2023-11-01—Revisions to Certain Agreements to Which West Penn Power is a Party to be effective 12/31/9998.

Filed Date: 11/1/23.

Accession Number: 20231101-5082.

Comment Date: 5 p.m. ET 11/22/23.

Docket Numbers: ER24-291-000.

Applicants: Metropolitan Edison Company, PJM Interconnection, L.L.C.

Description: 205(d) Rate Filing: Metropolitan Edison Company submits tariff filing per 35.13(a)(2)(iii: Met-Ed Amends Three ECSAs, SA Nos. 6403, 6413 and 6626 to be effective 12/31/9998,

Filed Date: 11/1/23.

Accession Number: 20231101-5089.

Comment Date: 5 p.m. ET 11/22/23.

Docket Numbers: ER24-292-000.

Applicants: FirstEnergy Pennsylvania Electric Company.

Description: 205(d) Rate Filing: 2023-11-01—Revisions to Certain Agreements to Which Met Ed Company is a Party to be effective 12/31/9998.

Filed Date: 11/1/23.

Accession Number: 20231101-5091.

Comment Date: 5 p.m. ET 11/22/23.

Docket Numbers: ER24-293-000.

Applicants: Tri-State Generation and Transmission Association, Inc.

Description: 205(d) Rate Filing: Initial Filing of Service Agreement FERC Nos. 613 Through 618 to be effective 10/2/2023.

Filed Date: 11/1/23.

Accession Number: 20231101-5094.

Comment Date: 5 p.m. ET 11/22/23.

Docket Numbers: ER24-294-000.

Applicants: Southwest Power Pool, Inc.

Description: 205(d) Rate Filing: 4168 NextEra Energy Resources Surplus Interconnection GIA to be effective 12/31/2023.

Filed Date: 11/1/23.

Accession Number: 20231101-5095.

Comment Date: 5 p.m. ET 11/22/23.

Docket Numbers: ER24-295-000.

Applicants: EnerSmart El Cajon BESS LLC.

Description: 205(d) Rate Filing: Request for Authority to Make Sales of Capacity at Market-Based Rates to be effective 1/1/2024.

Filed Date: 11/1/23.

Accession Number: 20231101-5096.

Comment Date: 5 p.m. ET 11/22/23.

Docket Numbers: ER24-296-000.

Applicants: EnerSmart Imperial Beach BESS LLC.

Description: 205(d) Rate Filing: Request for Authority to Make Sales of Capacity at Market-Based Rates to be effective 1/1/2024.

Filed Date: 11/1/23.

Accession Number: 20231101-5097.

Comment Date: 5 p.m. ET 11/22/23.

Docket Numbers: ER24-297-000.

Applicants: EnerSmart Mesa Heights BESS LLC.

Description: 205(d) Rate Filing: Request for Authority to Make Sales of Capacity at Market-Based Rates to be effective 1/1/2024.

Filed Date: 11/1/23.

Accession Number: 20231101-5098.

Comment Date: 5 p.m. ET 11/22/23.

Docket Numbers: ER24-298-000.

Applicants: Southwestern Electric Power Company.

Description: 205(d) Rate Filing: ETEC and NTEC PSA to be effective 1/1/2024.

Filed Date: 11/1/23.

Accession Number: 20231101-5106.

Comment Date: 5 p.m. ET 11/22/23.

Docket Numbers: ER24-299-000.

Applicants: Southwestern Electric Power Company.

Description: 205(d) Rate Filing: Bentonville PSA to be effective 1/1/2024.

Filed Date: 11/1/23.

Accession Number: 20231101-5110.

Comment Date: 5 p.m. ET 11/22/23.

Docket Numbers: ER24-300-000.

Applicants: DATC Path 15, LLC.

Description: 205(d) Rate Filing: Normal filing 2024 Appendix I to be effective 1/1/2024.

Filed Date: 11/1/23.

Accession Number: 20231101-5111.

Comment Date: 5 p.m. ET 11/22/23.

Docket Numbers: ER24-301-000.

Applicants: Southwestern Electric Power Company.

Description: 205(d) Rate Filing: Hope PSA to be effective 1/1/2024.

Filed Date: 11/1/23.

Accession Number: 20231101-5112.

Comment Date: 5 p.m. ET 11/22/23.

Docket Numbers: ER24-302-000.

Applicants: Southwestern Electric Power Company.

Description: 205(d) Rate Filing: Minden PSA to be effective 1/1/2024.

Filed Date: 11/1/23.

Accession Number: 20231101-5113.

Comment Date: 5 p.m. ET 11/22/23.

Docket Numbers: ER24-303-000.

Applicants: The Connecticut Light and Power Company.

Description: 205(d) Rate Filing: Design and Engineering Agreement—WE 400 Groton Road, LLC to be effective 11/2/2023.

Filed Date: 11/1/23.

Accession Number: 20231101-5115.

Comment Date: 5 p.m. ET 11/22/23.

Docket Numbers: ER24-304-000.

Applicants: Southwestern Electric Power Company.

Description: 205(d) Rate Filing: NTEC PSA to be effective 1/1/2024.

Filed Date: 11/1/23.

Accession Number: 20231101-5116.

Comment Date: 5 p.m. ET 11/22/23.

Docket Numbers: ER24-305-000.

Applicants: Southwestern Electric Power Company.

Description: 205(d) Rate Filing: Prescott PSA to be effective 1/1/2024.

Filed Date: 11/1/23.

Accession Number: 20231101-5120.

Comment Date: 5 p.m. ET 11/22/23.

Docket Numbers: ER24-306-000.

Applicants: Pacific Gas and Electric Company.

Description: 205(d) Rate Filing: Turlock Irrigation District IA (SA 467) to be effective 1/1/2024.

Filed Date: 11/1/23.

Accession Number: 20231101-5124.

Comment Date: 5 p.m. ET 11/22/23.

Docket Numbers: ER24-307-000.

Applicants: Roundhouse Interconnect, LLC.

Description: Baseline eTariff Filing: Roundhouse Interconnect, LLC Shared Facilities Agreement to be effective 12/1/2023.

Filed Date: 11/1/23.

Accession Number: 20231101-5140.

Comment Date: 5 p.m. ET 11/22/23.

Docket Numbers: ER24-308-000.

Applicants: Roundtop Energy LLC, Beaver Dam Energy LLC, Milan Energy LLC, Alpaca Energy LLC, Wolf Run Energy LLC, Oxbow Creek Energy LLC.

Description: Petition for Limited Waiver of Roundtop Energy LLC, et al.

Filed Date: 11/1/23.

Accession Number: 20231101-5157.

Comment Date: 5 p.m. ET 11/22/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 1, 2023.
Debbie-Anne A. Reese,
Deputy Secretary.

[FR Doc. 2023-24592 Filed 11-6-23; 8:45 am]

BILLING CODE 6717-01-P